DEPARTMENT OF HOUSING AND URBAN DEVELOPMENT

[Docket No. FR-5979-N-01]

Notice of Web Availability: Memorandum of Understanding Regarding U.S. Department of Housing and Urban Development Compliance With the National Environmental Policy Act and Related Laws and Authorities

AGENCY: Office of Environment and Energy, HUD.

ACTION: Notice.

SUMMARY: Today's notice announces that HUD has posted on its Web site its Memorandum of Understanding (MOU) regarding HUD compliance with the National Environmental Policy Act (NEPA) and related laws and authorities.

FOR FURTHER INFORMATION CONTACT: Jim Potter, Office of Environment and Energy, Department of Housing and Urban Development, 451 7th Street SW., Room 7212, Washington, DC 20410; telephone number 202-708-4225 (this is not a toll-free number). Persons with hearing or speech impairments may access this number through TTY by calling the toll-free Federal Relay Service at 800-877-8339.

SUPPLEMENTARY INFORMATION: Today's notice announce that HUD has posted on its Web site its “Memorandum of Understanding (MOU) Regarding U.S. Department of Housing and Urban Development Compliance with the National Environmental Policy Act (NEPA) and Related Laws and Authorities”.

A core mission of HUD is to provide housing in a safe, suitable and healthy environment, and this mission is accomplished in large measure through environmental compliance with NEPA. NEPA ensures that a project's impacts on the environment, as well as the environment's impacts on the residents, are considered in a transparent manner before decisions are made.

The purpose of the MOU is to outline the respective roles and responsibilities of HUD program offices to ensure HUD compliance with NEPA and related laws and authorities, and HUD's implementing regulations of 24 CFR parts 50, 51, 55, and 58. The MOU defines the roles and responsibilities of the parties involved in HUD's environmental review process, establishes a governance structure to address environmental compliance issues, and clarifies procedural mechanisms to ensure and evaluate compliance.

The MOU establishes an internal governance structure to address environmental compliance issues with regional, national, and executive committees. Issues can be raised at each level and elevated as necessary to create a more efficient review process. Mechanisms to maintain and monitor environmental compliance are included in the MOU. HUD will develop a management program to evaluate program office compliance with environmental review requirements. These procedures will be used to identify and solve internal issues of compliance.

The MOU can be found on the Department of Housing and Urban Development's Web site at https://www.hudexchange.info/resource/5142/hud-nepa-compliance-mou/.

Dated: September 20, 2016.
Danielle L. Schopp,
Director Office of Environment and Energy.

[FR Doc. 2016-23014 Filed 9-23-16; 8:45 am]

BILLING CODE 4210-67-P